DEPARTMENT OF HEALTH AND HUMAN SERVICES

Centers for Disease Control and Prevention

[Docket No. CDC-2020-0011]

Draft Infection Control in Healthcare Personnel: Epidemiology and Control of Selected Infections Transmitted Among Healthcare Personnel and Patients: Diphtheria, Group A Streptococcus, Meningococcal Disease, and Pertussis Sections; Re-Opening of Comment Period

AGENCY: Centers for Disease Control and Prevention (CDC), Department of Health and Human Services (DHHS).

ACTION: Notice with comment.

SUMMARY: The Centers for Disease Control and Prevention (CDC), in the Department of Health and Human Services (DHHS), announces the re-opening of a docket to obtain a public comment on the DRAFT Infection Control in Healthcare Personnel: Epidemiology and Control of Selected Infections Transmitted Among Healthcare Personnel and Patients: Diphtheria, Group A Streptococcus, Meningococcal Disease, and Pertussis Sections (“Draft Guideline”).

DATES: Written comments must be received on or before May 4, 2021.

ADDRESSES: You may submit comments, identified by Docket No. CDC-2020-0011, by any of the following methods:

• Federal eRulemaking Portal: http://www.regulations.gov. Follow the instructions for submitting comments.

• Mail: Division of Healthcare Quality Promotion, National Center for Emerging and Zoonotic Infectious Diseases, Centers for Disease Control and Prevention, Attn: Docket No. CDC-2020-0011, Infection Prevention and Control Guidelines, 1600 Clifton Rd. NE, Mailstop H16-2, Atlanta, Georgia, 30329.

Instructions: All submissions received must include the agency name and Docket Number. All relevant comments received will be posted without change to http://regulations.gov, including any personal information provided. For access to the docket to read background documents or comments received, go to http://www.regulations.gov.

FOR FURTHER INFORMATION CONTACT: Erin Stone, M.A., Division of Healthcare Quality Promotion, National Center for Emerging and Zoonotic Infectious Diseases, Centers for Disease Control and Prevention, 1600 Clifton Road NE, Mailstop H16-2, Atlanta, Georgia, 30329; Email: IPCGuidelines@cdc.gov; Telephone: (404) 639-4000.

SUPPLEMENTARY INFORMATION:

Public Participation

Interested persons or organizations are invited to participate by submitting written views, recommendations, and data related to the Draft Guideline.

Please note that comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. CDC will carefully consider all comments submitted in preparation of the final Infection Control in Healthcare Personnel: Epidemiology and Control of Selected Infections Transmitted Among Healthcare Personnel and Patients and may revise the Draft Guideline as appropriate.

Background

On February 26, 2020, CDC published a notice in the Federal Register requesting public comment on the `Draft Infection Control in Healthcare Personnel: Epidemiology and Control of Selected Infections Transmitted Among Healthcare Personnel and Patients: Diphtheria, Group A Streptococcus, Meningococcal Disease, and Pertussis Sections' (85 FR 11084). Because the original notice was published in the early days of the COVID-19 pandemic, interested persons may not have had the opportunity to provide comment. For this reason, CDC has decided to re-open the comment period to provide the public with additional time to review the draft document and provide comment.

The Draft Guideline updates four sections of the Guideline for Infection Control in Health Care Personnel, 1998 (“1998 Guideline”), Part E: Epidemiology and Control of Selected Infections Transmitted Among Health Care Personnel and Patients, and their corresponding recommendations in Part II of the 1998 Guideline: “4. Diphtheria;” “9. Meningococcal Disease;” “12. Pertussis;” and “18. Streptococcus, group A infection.” The updated recommendations in the Draft Guideline are intended for use by the leaders and staff of Occupational Health Services (OHS) to facilitate providing occupational infection prevention and control (IPC) services to healthcare personnel (HCP) for the management of exposed or infected HCP who may be contagious to others in the workplace.

Since 2015, the Healthcare Infection Control Practices Advisory Committee (HICPAC) has worked with national partners, academicians, public health professionals, healthcare providers, and other partners to develop this Draft Guideline as a recommendation for CDC to update sections of the 1998 Guideline. HICPAC includes representatives from public health, infectious diseases, regulatory and other federal agencies, professional societies, and other stakeholders.

The updated draft recommendations in this Draft Guideline are informed by reviews of the 1998 Guideline; current CDC resources, guidance, and guidelines; and new resources and evidence, when available. This Draft Guideline and the updated final Guideline will not be a federal rule or regulation.

Dated: March 1, 2021.
Sandra Cashman,
Executive Secretary, Centers for Disease Control and Prevention.

[FR Doc. 2021-04515 Filed 3-4-21; 8:45 am]

BILLING CODE 4163-18-P